DEPARTMENT OF JUSTICE

Drug Enforcement Administration

21 CFR Part 1301

[Docket No. DEA-1144]

RIN 1117-AB84

Controlled Substance Destruction Alternatives to Incineration; Extension of Comment Period

AGENCY: Drug Enforcement Administration, Department of Justice.

ACTION: Advance notice of proposed rulemaking; extension of comment period.

SUMMARY: The Drug Enforcement Administration (DEA) published an advance notice of proposed rulemaking entitled “Controlled Substance Destruction Alternatives to Incineration” in the Federal Register on October 31, 2023. DEA is extending the comment period on that advance notice until April 1, 2024.

DATES: The comment period for the advanced notice of proposed rulemaking published October 31, 2023, at 88 FR 74379 is extended until April 1, 2024. Electronic comments must be submitted, and written comments must be postmarked, on or before April 1, 2024. Commenters should be aware that the electronic Federal Docket Management System will not accept comments after 11:59 p.m. Eastern Time on the last day of the comment period.

ADDRESSES: To ensure proper handling of comments, please reference “RIN 1117-AB84/Docket No. DEA-1144” on all correspondence, including any attachments.

• Electronic comments: DEA encourages that all comments be submitted electronically through the Federal eRulemaking Portal, which provides the ability to type comments directly into the comment field on the web page or to attach a file containing comments. Please go to http://www.regulations.gov and follow the online instructions at that site for submitting comments. Upon completion of your submission, you will receive a Comment Tracking Number for your comment generated by http://www.regulations.gov. Please be aware that submitted comments are not instantaneously available for public view on http://www.regulations.gov. If you have received a Comment Tracking Number, your comment has been successfully submitted, and there is no need to resubmit the same comment.

• Paper comments: Paper comments that duplicate the electronic submission are discouraged. Should you wish to mail a paper comment in lieu of submitting a comment electronically, it should be sent via regular or express mail to: Drug Enforcement Administration, Attn: DEA Federal Register Representative/DPW, 8701 Morrissette Drive, Springfield, Virginia 22152. Hand-delivered comments will not be accepted.

FOR FURTHER INFORMATION CONTACT: Scott A. Brinks, Regulatory Drafting and Policy Support Section, Diversion Control Division, Drug Enforcement Administration; Telephone: (571) 776-3882.

SUPPLEMENTARY INFORMATION:

Posting of Public Comments

Please note that all comments received in response to this docket are considered part of the public record. The Drug Enforcement Administration (DEA) will make all comments available for public inspection online at http://www.regulations.gov. Such information includes personal or business identifiers (such as name, address, state or Federal identifiers, etc.) voluntarily submitted by the commenter. All information voluntarily submitted by the commenter, unless clearly marked as Confidential Information in the method described below, will be publicly posted. Comments may be submitted anonymously. The Freedom of Information Act applies to all comments received.

Commenters submitting comments which include personal identifying information (PII), confidential, or proprietary business information that the commenter does not want made publicly available should submit two copies of the comment. One copy must be marked “CONTAINS CONFIDENTIAL INFORMATION” and should clearly identify all PII or business information the commenter does not want to be made publicly available, including any supplemental materials. DEA will review this copy, including the claimed PII and confidential business information, in its consideration of comments. The second copy should be marked “TO BE PUBLICLY POSTED” and must have all claimed confidential PII and business information already redacted. DEA will post only the redacted comment on http://www.regulations.gov for public inspection.

For easy reference, an electronic copy of this document and a plain language summary are available at http://www.regulations.gov.

Summary

On October 31, 2023, DEA published an advance notice of proposed rulemaking (ANPRM) requesting stakeholder responses to ten questions about methods and technology currently being utilized or developed to render controlled substances non-retrievable.¹ Since publication, DEA received two requests from stakeholders for an extension of the comment period due to timeliness difficulties preparing adequate comments to the ANPRM during the holidays. One of those commenters, an association, stated that its member companies have a significant interest in this ANPRM, and requested an extension to allow them to provide timely and informative comments.

¹ 88 FR 74379 (Oct. 31, 2023).

After considering these requests for additional response time, DEA is extending the comment period to allow stakeholders to prepare and submit comments. This allows sufficient time for persons to evaluate and consider all relevant information and respond accordingly. Therefore, the comment period is extended to April 1, 2024. Electronic comments must be submitted, and written comments must be postmarked, on or before this date.

Signing Authority

This document of the Drug Enforcement Administration was signed on December 28, 2023, by Administrator Anne Milgram. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Scott Brinks,
Federal Register Liaison Officer, Drug Enforcement Administration.

[FR Doc. 2023-28964 Filed 12-29-23; 11:15 am]

BILLING CODE 4410-09-P